DEPARTMENT OF TRANSPORTATION

Federal Aviation Administration

Membership in the National Parks Overflights Advisory Group

AGENCY: Federal Aviation Administration, (FAA), DOT.

ACTION: Solicitation of applications.

SUMMARY: The Federal Aviation Administration (FAA) and the National Park Service (NPS) invite interested persons to apply to fill one current vacancy and one upcoming vacancy on the National Parks Overflights Advisory Group (NPOAG). This notice invites interested persons to apply to fill the openings, one of which represents air tour operator interests and one of which represents Native American concerns.

DATES: Persons interested in these membership openings will need to apply by December 8, 2017.

FOR FURTHER INFORMATION CONTACT: Keith Lusk, Special Programs Staff, Federal Aviation Administration, Western-Pacific Region Headquarters, 15000 Aviation Boulevard, Lawndale, CA 90261, telephone: (310) 725-3808, email: Keith.Lusk@faa.gov.

SUPPLEMENTARY INFORMATION:

Background

The National Parks Air Tour Management Act of 2000 (the Act) was enacted on April 5, 2000, as Public Law 106-181, and subsequently amended in the FAA Modernization and Reform Act of 2012. The Act required the establishment of the advisory group within 1 year after its enactment. The NPOAG was established in March 2001. The advisory group is comprised of a balanced group of representatives of general aviation, commercial air tour operations, environmental concerns, and Native American tribes. The Administrator of the FAA and the Director of NPS (or their designees) serve as ex officio members of the group. Representatives of the Administrator and Director serve alternating 1-year terms as chairman of the advisory group.

In accordance with the Act, the advisory group provides “advice, information, and recommendations to the Administrator and the Director-

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Membership

The current NPOAG is made up of one member representing general aviation, three members representing the commercial air tour industry, four members representing environmental concerns, and two members representing Native American interests. Current members of the NPOAG are as follows:

Melissa Rudinger representing general aviation; Alan Stephen and Matt Zuccaro represent commercial air tour operators with one current opening; Rob Smith, Dick Hingson, Les Blomberg, and John Eastman represent environmental interests; and Leigh Kuwanwisiwma and Martin Begaye represent Native American tribes. Mr. Kuwanwisiwma's 3-year term expires on April 2, 2018.

Selections

In order to retain balance within the NPOAG, the FAA and NPS are seeking candidates interested in filling one open seat representing air tour operator interests and one upcoming vacancy representing Native American concerns. The FAA and NPS invite persons interested in these openings on the NPOAG to contact Mr. Keith Lusk (contact information is written above in FOR FURTHER INFORMATION CONTACT). Requests to serve on the NPOAG must be made to Mr. Lusk in writing and postmarked or emailed on or before December 8, 2017. The request should indicate whether or not you are a member of an air tour operator association or company or whether you are a member of a Native American tribe. The request should also state what expertise you would bring to the NPOAG as related to issues and concerns with aircraft flights over national parks and/or tribal lands. The term of service for NPOAG members is 3 years. Current members may re-apply for another term.

On August 13, 2014, the Office of Management and Budget issued revised guidance regarding the prohibition against appointing or not reappointing federally registered lobbyists to serve on advisory committees (79 Federal Register 47482).

Therefore, before appointing an applicant to serve on the NPOAG, the FAA and NPS will require the prospective candidate to certify that they are not a federally registered lobbyist.

Issued in Hawthorne, CA, on October 26, 2017.
Keith Lusk
Program Manager, Special Programs Staff, Western-Pacific Region.

[FR Doc. 2017-23672 Filed 10-30-17; 8:45 am]

BILLING CODE 4910-13-P